DEPARTMENT OF JUSTICE

Notice of Lodging of Proposed Consent Decree Under the Clean Air Act

On March 9, 2018, the Department of Justice lodged a proposed Consent Decree with the United States District Court for the Northern District of Illinois in the lawsuit entitled United States, the State of Illinois, and Citizens Against Ruining the Environment v. Midwest Generation, LLC, Civil Action No. 09-cv-05277.

In 2009, the United States, the State, and Citizens Against Ruining the Environment filed this lawsuit under the Clean Air Act, seeking injunctive relief and civil penalties for violations of the Clean Air Act at Midwest Generation's six coal-fired electric generating power plants in Illinois. This Consent Decree resolves the litigation by requiring the Defendant to perform injunctive relief and pay a $1 million civil penalty to be split evenly by the United States and the State of Illinois.

The publication of this notice opens a period for public comment on the Consent Decree. Comments should be addressed to the Assistant Attorney General, Environment and Natural Resources Division, and should refer to United States, et al. v. Midwest Generation, LLC, D.J. Ref. No. 90-5-2-1-09334. All comments must be submitted no later than thirty (30) days after the publication date of this notice. Comments may be submitted either by email or by mail:

To submit comments: | Send them to:
By email | pubcomment-ees.enrd@usdoj.gov.
By mail | Assistant Attorney General, U.S. DOJ—ENRD, P.O. Box 7611, Washington, DC 20044-7611.

During the public comment period, the Consent Decree may be examined and downloaded at this Justice Department website: https://www.justice.gov/enrd/consent-decrees. We will provide a paper copy of the Consent Decree upon written request and payment of reproduction costs. Please mail your request and payment to: Consent Decree Library, U.S. DOJ—ENRD, P.O. Box 7611, Washington, DC 20044-7611.

Please enclose a check or money order for $12.00 (25 cents per page reproduction cost) payable to the United States Treasury.

Jeffrey K. Sands,
Assistant Section Chief, Environmental Enforcement Section, Environment and Natural Resources Division.

[FR Doc. 2018-05246 Filed 3-14-18; 8:45 am]

BILLING CODE 4410-15-P